DEPARTMENT OF THE INTERIOR

Fish and Wildlife Service

[FWS-HQ-MB-2014-N034: FF09M21200-134-FXMB1231099BPP0]

Information Collection Request Sent to the Office of Management and Budget (OMB) for Approval; Federal Fish and Wildlife Permit Applications and Reports—Migratory Birds and Eagles

AGENCY: Fish and Wildlife Service, Interior.

ACTION: Notice; request for comments.

SUMMARY: We (U.S. Fish and Wildlife Service) have sent an Information Collection Request (ICR) to OMB for review and approval. We summarize the ICR below and describe the nature of the collection and the estimated burden and cost. This information collection is scheduled to expire on February 28, 2014. We may not conduct or sponsor and a person is not required to respond to a collection of information unless it displays a currently valid OMB control number. However, under OMB regulations, we may continue to conduct or sponsor this information collection while it is pending at OMB.

DATES: You must submit comments on or before March 31, 2014.

ADDRESSES: Send your comments and suggestions on this information collection to the Desk Officer for the Department of the Interior at OMB-OIRA at (202) 395-5806 (fax) or OIRA_Submission@omb.eop.gov (email). Please provide a copy of your comments to the Service Information Collection Clearance Officer, U.S. Fish and Wildlife Service, MS 2042-PDM, 4401 North Fairfax Drive, Arlington, VA 22203 (mail), or hope_grey@fws.gov (email). Please include “1018-0022” in the subject line of your comments.

FOR FURTHER INFORMATION CONTACT: To request additional information about this ICR, contact Hope Grey at hope_grey@fws.gov (email) or 703-358-2482 (telephone). You may review the ICR online at http://www.reginfo.gov. Follow the instructions to review Department of the Interior collections under review by OMB.

SUPPLEMENTARY INFORMATION:

Information Collection Request

OMB Control Number: 1018-0022.

Title: Federal Fish and Wildlife License/Permit Applications and Reports, Migratory Birds and Eagles, 50 CFR 10, 13, 21, and 22.

Service Form Numbers: 3-200-6 through 3-200-9, 3-200-10a through 3-200-10f, 3-200-12 through 3-200-16, 3-200-18, 3-200-67, 3-200-68, 3-200-71, 3-200-72, 3-200-77, 3-200-78, 3-200-79, 3-200-81, 3-200-82, 3-202-1 through 3-202-17, 3-186, and 3-186A.

Type of Request: Revision of a currently approved collection.

Description of Respondents: Individuals; zoological parks; museums; universities; scientists; taxidermists; businesses; utilities; and Federal, State, tribal, and local governments.

Respondent's Obligation: Required to obtain or retain a benefit.

Frequency of Collection: On occasion for applications; annually or on occasion for reports.

Estimated Number of Annual Responses: 61,623.

Estimated Completion Time per Response: Varies from 15 minutes to 452 hours, depending on activity.

Estimated Annual Burden Hours: 106,661.

Estimated Annual Nonhour Burden Cost: $1,520,525 for permit application fees.

Abstract: Our Regional Migratory Bird Permit Offices use information that we collect on permit applications to determine the eligibility of applicants for permits requested in accordance with the criteria in various Federal wildlife conservation laws and international treaties, including:

(1) Migratory Bird Treaty Act (16 U.S.C. 703 et seq.).

(2) Lacey Act (16 U.S.C. 3371 et seq.).

(3) Bald and Golden Eagle Protection Act (16 U.S.C. 668).

Service regulations implementing these statutes and treaties are in chapter I, subchapter B of title 50 of the Code of Federal Regulations (CFR). These regulations stipulate general and specific requirements that, when met, allow us to issue permits to authorize activities that are otherwise prohibited.

All Service permit applications are in the 3-200 series of forms, each tailored to a specific activity based on the requirements for specific types of permits. We collect standard identifier information for all permits. The information that we collect on applications and reports is the minimum necessary for us to determine if the applicant meets/continues to meet issuance requirements for the particular activity.

This ICR also includes the burden for permit applications and report forms for long-term eagle take permits that is currently approved under OMB Control Number 1018-0151. Once OMB takes action on this IC, we will discontinue OMB Control No. 1018-0151.

Comments Received and Our Responses

On November 13, 2013, we published in the Federal Register (78 FR 68086) a notice of our intent to request that OMB renew approval for this information collection. In that notice, we solicited comments for 60 days, ending on January 13, 2014. We received one comment from the American Bird Conservancy (ABC).

The commenter stressed that while “there are ways that the quality, utility and clarity of the information to be collected can be enhanced and ways that a system can be streamlined to minimize burden of the collection of information on respondents. . .,” he emphasized that “the minimum amount of information to be collected must allow the USFWS to make a valid determination that the proposed action is permissible under the law. Information regarding impact on wild populations, proposed use of the specimens, and explanations of necessary mitigation/compensation, when required are thus critical for allowing the USFWS to do its important job of protecting our public trust resources for the benefit of all.”

We appreciate ABC's comments because they recognize the importance of collecting sufficient information from applicants and permittees to ensure that the applicant qualifies for the permit, that issuance of the permit meets issuance criteria, and that report information is sufficient to allow both enforcement of the permits, and, particularly where wild birds are concerned, that the report information collected contributes to our knowledge of the impacts of utilities and other entities on migratory birds, including eagles.

A significant change we are making is to convert the report form for Special Purpose Utility permits (3-202-17) from paper to electronic format. These permits allow utilities such as electric, wind, and solar companies to collect birds found dead on their property. The data will be housed in the Avian Injury/Mortality Reporting System (AIMRS). Our goal is to make reporting more convenient for permittees, but electronic submission will be particularly beneficial for the Service, because it will make the data accessible for analysis without staff having to enter it manually. This will make the data on this important source of mortality readily available to biologists who are monitoring the impacts of incidental take and working with industry to identify best practices to reduce those impacts.

Request for Public Comments

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Availability of Public Comments

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Dated: February 24, 2014.
Tina A. Campbell,
Chief, Division of Policy and Directives Management, U.S. Fish and Wildlife Service.

[FR Doc. 2014-04319 Filed 2-26-14; 8:45 am]

BILLING CODE 4310-55-P